DEPARTMENT OF TRANSPORTATION

Pipeline and Hazardous Materials Safety Administration

Hazardous Materials: Notice of Applications for Special Permits

AGENCY: Pipeline and Hazardous Materials Safety Administration (PHMSA), DOT.

ACTION: List of applications for modification of special permits.

SUMMARY: In accordance with the procedures governing the application for, and the processing of, special permits from the Department of Transportation's Hazardous Material Regulations, notice is hereby given that the Office of Hazardous Materials Safety has received the application described herein. Each mode of transportation for which a particular special permit is requested is indicated by a number in the “Nature of Application” portion of the table below as follows: 1—Motor vehicle, 2—Rail freight, 3—Cargo vessel, 4—Cargo aircraft only, 5—Passenger-carrying aircraft.

DATES: Comments must be received on or before February 21, 2019.

ADDRESSES: Record Center, Pipeline and Hazardous Materials Safety Administration, U.S. Department of Transportation Washington, DC 20590.

Comments should refer to the application number and be submitted in triplicate. If confirmation of receipt of comments is desired, include a self-addressed stamped postcard showing the special permit number.

FOR FURTHER INFORMATION CONTACT: Ryan Paquet, Director, Office of Hazardous Materials Approvals and Permits Division, Pipeline and Hazardous Materials Safety Administration, U.S. Department of Transportation, East Building, PHH-30, 1200 New Jersey Avenue Southeast, Washington, DC 20590-0001, (202) 366-4535.

SUPPLEMENTARY INFORMATION: Copies of the applications are available for inspection in the Records Center, East Building, PHH-30, 1200 New Jersey Avenue Southeast, Washington DC or at http://regulations.gov.

This notice of receipt of applications for special permit is published in accordance with part 107 of the Federal hazardous materials transportation law (49 U.S.C. 5117(b); 49 CFR 1.53(b)).

Issued in Washington, DC, on February 1, 2019.
Donald P. Burger,
Chief, General Approvals and Permits Branch.

SPECIAL PERMITS DATA
Application No. | Applicant | Regulation(s) Affected | Nature of the special permits thereof
2709-M | COPPERHEAD CHEMICAL COMPANY, INC | 173.24(c), 173.54(e), 173.62, 177.834(l)(1) | To modify the special permit to remove the temperature-control requirement for shipments. (modes 1, 3).
7945-M | MEGGITT SAFETY SYSTEMS, INC | 173.304a(a)(1) | To modify the special permit to authorize additional Class 2.2 hazmat to the permit. (modes 1, 2, 3, 4, 5).
10511-M | SCHLUMBERGER TECHNOLOGY CORP | 173.304a | To modify the special permit to authorize a new pressure housing for transporting hazmat. (modes 1, 2, 4, 5).
11646-M | BAKER PETROLITE LLC | 172.203(a), 172.301(c), 177.834(h) | To modify the special permit to authorize additional Class 3, 6.1, 8 and 9 hazmat. (mode 1).
12116-M | PROSERV UK LTD | 173.201, 173.301(f), 173.302a, 173.304a | To authorize the addition of new Type 5 Severs Service Cylinders. (modes 1, 2, 3, 4).
12899-M | CORE LABORATORIES L.P. | 173.301(f), 173.302a(a), 173.304a(a), 173.304a(d), 173.201(c), 173.202(c), 173.203(c), 175.3 | To modify the special permit to authorize an alternative to marking the necks of cylinders. (modes 1, 2, 3, 4).
14574-M | KMG ELECTRONIC CHEMICALS, INC | 180.407(c), 180.407(e), 180.407(f) | To modify the special permit to authorize an additional cargo tank wagon. (mode 1).
14756-M | UNIVATION TECHNOLOGIES, LLC | 173.242(c) | To modify the special permit to authorize the 5 year periodic pressure test to be performed pneumatically with nitrogen and to allow party status to the permit. (modes 1, 2, 3).
15146-M | CHEMTRONICS INC | 173.304(d) | To modify the special permit to authorize the use of the limited quantity marking. (modes 1, 2, 3, 4).
16011-M | AMERICASE, LLC | 173.185(f), 172.500, 172.600, 172.700(a), 172.200, 172.400, 172.300 | To clarify that suspected damaged, defective or recalled lithium batteries can be transported according to the permit. (modes 1, 2, 3).
16095-M | CLAY AND BAILEY MANUFACTURING COMPANY | 172.203(a), 178.345-1, 180.413 | To modify the special permit to authorize a new design with a gasket in the cover vs. an O-ring in the base for sealing the manway. (modes 1, 3).
16394-M | CELLCO PARTNERSHIP | 173.185(f), 172.600, 172.400a, 172.200, 172.300 | To modify the permit to bring the permit provisions in line with regulatory citations. (modes 1, 2, 3).
16413-M | AMAZON.COM, INC | 172.301(c), 173.185(c)(1)(iii), 173.185(c)(3)(i) | To modify the special permit to authorize an additional mode of transportation (mode 2).
16532-M | EQ INDUSTRIAL SERVICES, INC | 173.185(f)(2), 173.185(f)(3) | To modify the special permit to authorize a different alternative packaging. (modes 1, 2).
20351-M | ROEDER CARTAGE COMPANY, INCORPORATED | 180.407(c), 180.407(c), 180.407(e), 180.407(f) | To modify the permit to authorize additional tanks for dedicated transportation of authorized hazmat. (mode 1).
20378-M | LG CHEM | 172.101(j) | To modify the special permit to authorize fiberboard boxes as outer packaging. (mode 4).
20500-M | CALIFORNIA DEPARTMENT OF TOXIC SUBSTANCES CONTROL |  | To modify the special permit issued on an emergency basis and make it permanent. (mode 1).
20584-M | BATTERY SOLUTIONS, LLC | 173.185(f)(3), 173.185(c)(1)(iii), 173.185(c)(1)(iv), 173.185(c)(1)(v), 173.185(c)(3), 173.185(f) | To modify the special permit to authorize the use of thermally insulating fire suppressant material in a sufficient quantity and manner that will suppress lithium battery fires, heat and smoke and absorbs the smoke, gases and flammable vapors and electrolytes during a thermal runaway incident. (modes 1, 2, 3).
20612-M | WILCO MACHINE & FAB, INC | 178.345-7(a)(1), 178.345-3(a) | To modify the special permit to remove the annual testing requirement for some specific tanks. (mode 1).
20661-M | SAFT AMERICA INC | 172.400, 172.300, 173.301(g), 173.302a(a)(1), 173.185(b) | To modify the special permit to authorize the use of batteries not manufactured by Saft in the battery assemblies, and an increase in the maximum rated energy capacity permitted for the containerized battery assembly, that references to the UN Test Manual be updated to take account of the January 1, 2019, effective date of Amendment 1 to the Sixth Revised edition under international regulations. (modes 1,3). Some editorial corrections in the SP are also requested. (modes 1, 3).
20673-M | Airopack B.V. | 173.306(a) | To modify the special permit to provide editorial changes and to clarify test procedures. (modes 1, 2, 3, 4, 5).
20684-M | LINDE GAS NORTH AMERICA LLC | 179.7, 179.300-15, 180.519(a) | To authorize domestic use of the tank cars. (mode 2).
20689-M | DEPARTMENT OF DEFENSE (MILITARY SURFACE DEPLOYMENT & DISTRIBUTION COMMAND) | 171.2(k) | To modify the special permit that was issued on an emergency basis and make it permanent. (modes 1, 3).

[FR Doc. 2019-01297 Filed 2-5-19; 8:45 am]

BILLING CODE 4909-60-P